DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: This action was issued on November 27, 2024. See SUPPLEMENTARY INFORMATION for relevant dates.

FOR FURTHER INFORMATION CONTACT: OFAC: Associate Director for Global Targeting, 202-622-2420; Assistant Director for Sanctions Compliance, 202-622-2490 or https://ofac.treasury.gov/contact-ofac.

SUPPLEMENTARY INFORMATION:

Electronic Availability

The SDN List and additional information concerning OFAC sanctions programs are available on OFAC's website: https://ofac.treasury.gov.

Notice of OFAC Action

On November 27, 2024, OFAC determined that the property and interests in property subject to U.S. jurisdiction of the following persons are blocked under the relevant sanctions authorities listed below.

Individuals

1. RODRIGUEZ DIAZ, Dilio Guillermo, Venezuela; DOB 25 Jun 1968; POB Venezuela; nationality Venezuela; Gender Male; Cedula No. V9600712 (Venezuela) (individual) [VENEZUELA].

Designated pursuant to section 1(a)(ii)(C) of Executive Order 13692 of March 8, 2015, “Blocking Property and Suspending Entry of Certain Persons Contributing to the Situation in Venezuela,” 80 FR 12747, 3 CFR, 2015 Comp., p. 276 (March 11, 2015) (E.O. 13692), as amended by Executive Order 13857 of January 25, 2019, “Taking Additional Steps To Address the National Emergency With Respect to Venezuela,” 84 FR 509, 3 CFR, 2019 Comp., p. 251 (January 30, 2019) (E.O. 13857), for being a current or former official of the Government of Venezuela.

2. HERRERA DUARTE, Jose Yunior, Venezuela; DOB 11 Nov 1972; POB Acarigua, Venezuela; nationality Venezuela; Gender Male; Cedula No. V11078860 (Venezuela) (individual) [VENEZUELA].

Designated pursuant to section 1(a)(ii)(C) of E.O. 13692, as amended by E.O. 13857, for being a current or former official of the Government of Venezuela.

3. AIGSTER VILLAMIZAR, Carlos Eduardo, Venezuela; DOB 07 Jan 1972; POB Caracas, Venezuela; nationality Venezuela; Gender Male; Cedula No. V11983476 (Venezuela) (individual) [VENEZUELA].

Designated pursuant to section 1(a)(ii)(C) of E.O. 13692, as amended by E.O. 13857, for being a current or former official of the Government of Venezuela.

4. VILLAMIZAR GOMEZ, Jesus Rafael, Caracas, Venezuela; DOB 21 Dec 1971; POB Caracas, Venezuela; nationality Venezuela; Gender Male; Cedula No. V10794553 (Venezuela) (individual) [VENEZUELA].

Designated pursuant to section 1(a)(ii)(C) of E.O. 13692, as amended by E.O. 13857, for being a current or former official of the Government of Venezuela.

5. ROMERO BOLIVAR, Orlando Ramon, Venezuela; DOB 18 Sep 1969; POB Venezuela; nationality Venezuela; Gender Male; Cedula No. V8777449 (Venezuela) (individual) [VENEZUELA].

Designated pursuant to section 1(a)(ii)(C) of E.O. 13692, as amended by E.O. 13857, for being a current or former official of the Government of Venezuela.

6. BALESTRINI JARAMILLO, Angel Daniel, Venezuela; DOB 13 Sep 1974; POB Caracas, Venezuela; nationality Venezuela; Gender Male; Cedula No. V12085833 (Venezuela) (individual) [VENEZUELA].

Designated pursuant to section 1(a)(ii)(C) of E.O. 13692, as amended by E.O. 13857, for being a current or former official of the Government of Venezuela.

7. LIZANO COLMENTER, Pablo Ernesto, Venezuela; DOB 15 Sep 1973; POB Maracaibo, Venezuela; nationality Venezuela; Gender Male; Cedula No. V12059932 (Venezuela) (individual) [VENEZUELA].

Designated pursuant to section 1(a)(ii)(C) of E.O. 13692, as amended by E.O. 13857, for being a current or former official of the Government of Venezuela.

8. REYES RIVERO, Luis Gerardo, Venezuela; DOB 16 Feb 1973; POB Venezuela; nationality Venezuela; Gender Male; Cedula No. V11879256 (Venezuela) (individual) [VENEZUELA].

Designated pursuant to section 1(a)(ii)(C) of E.O. 13692, as amended by E.O. 13857, for being a current or former official of the Government of Venezuela.

9. RIVERA BASTARDO, Jose Alfredo, Venezuela; DOB 16 Feb 1970; POB Caracas, Venezuela; nationality Venezuela; Gender Male; Cedula No. V11025190 (Venezuela) (individual) [VENEZUELA].

Designated pursuant to section 1(a)(ii)(C) of E.O. 13692, as amended by E.O. 13857, for being a current or former official of the Government of Venezuela.

10. MATHEUS MELENDEZ, Alberto Alexander, Venezuela; DOB 20 Nov 1970; POB Venezuela; nationality Venezuela; Gender Male; Cedula No. V10597658 (Venezuela) (individual) [VENEZUELA].

Designated pursuant to section 1(a)(ii)(C) of E.O. 13692, as amended by E.O. 13857, for being a current or former official of the Government of Venezuela.

11. FERNANDEZ ALAYON, Jesus Ramon, Venezuela; DOB 03 Feb 1971; POB Caracas, Venezuela; nationality Venezuela; Gender Male; Cedula No. V10504917 (Venezuela) (individual) [VENEZUELA].

Designated pursuant to section 1(a)(ii)(C) of E.O. 13692, as amended by E.O. 13857, for being a current or former official of the Government of Venezuela.

12. CORONADO MILLAN, Anibal Eduardo, Venezuela; DOB 15 Oct 1974; POB Cumana, Venezuela; nationality Venezuela; Gender Male; Cedula No. V11832584 (Venezuela) (individual) [VENEZUELA].

Designated pursuant to section 1(a)(ii)(C) of E.O. 13692, as amended by E.O. 13857, for being a current or former official of the Government of Venezuela.

13. CASTILLO BOLLE, William Alfredo (a.k.a. CASTILLO BOLLE, Wiliam Alfredo), Caracas, Venezuela; DOB 18 Dec 1961; POB Caracas, Venezuela; nationality Venezuela; Gender Male; Cedula No. V5973031 (Venezuela); Diplomatic Passport 045793721 (Venezuela) expires 13 Jul 2027 (individual) [VENEZUELA].

Designated pursuant to section 1(a)(ii)(C) of E.O. 13692, as amended by E.O. 13857, for being a current or former official of the Government of Venezuela.

14. MENENDEZ PRIETO, Ricardo Jose, Caracas, Venezuela; DOB 07 Dec 1969; POB Caracas, Venezuela; nationality Venezuela; Gender Male; Cedula No. V10333821 (Venezuela) (individual) [VENEZUELA].

Designated pursuant to section 1(a)(ii)(C) of E.O. 13692, as amended by E.O. 13857, for being a current or former official of the Government of Venezuela.

15. NAZARET NANEZ CONTRERAS, Freddy Alfred (a.k.a. NAZARETH NANEZ CONTRERAS, Freddy Alfred; a.k.a. “Chucho”), Venezuela; DOB 15 Apr 1976; POB Petare, Miranda, Venezuela; nationality Venezuela; Gender Male; Cedula No. V13113260 (Venezuela) (individual) [VENEZUELA].

Designated pursuant to section 1(a)(ii)(C) of E.O. 13692, as amended by E.O. 13857, for being a current or former official of the Government of Venezuela.

16. CABELLO CONTRERAS, Daniella Desiree, Venezuela; DOB 11 Apr 1996; POB Caracas, Venezuela; nationality Venezuela; Gender Female; Cedula No. V23434318 (Venezuela) (individual) [VENEZUELA].

Designated pursuant to section 1(a)(ii)(C) of E.O. 13692, as amended by E.O. 13857, for being a current or former official of the Government of Venezuela.

17. SANTIAGO SERVIGNA, Ruben, Venezuela; DOB 23 Dec 1972; POB Venezuela; nationality Venezuela; Gender Male; Cedula No. V12221568 (Venezuela) (individual) [VENEZUELA].

Designated pursuant to section 1(a)(ii)(C) of E.O. 13692, as amended by E.O. 13857, for being a current or former official of the Government of Venezuela.

18. GARCIA ZERPA, Julio Jose, Venezuela; DOB 18 Dec 1986; POB Distrito Capital, Venezuela; citizen Venezuela; Gender Male; Cedula No. V17646721 (Venezuela) (individual) [VENEZUELA].

Designated pursuant to section 1(a)(ii)(C) of E.O. 13692, as amended by E.O. 13857, for being a current or former official of the Government of Venezuela.

19. PEREZ DAVILA, America Valentina, Venezuela; DOB 27 Nov 1993; POB Venezuela; citizen Venezuela; Gender Female; Cedula No. V20901866 (Venezuela) (individual) [VENEZUELA].

Designated pursuant to section 1(a)(ii)(C) of E.O. 13692, as amended by E.O. 13857, for being a current or former official of the Government of Venezuela.

20. RODRIGUEZ CABELLO, Alexis Jose, Venezuela; DOB 01 Oct 1965; POB Venezuela; nationality Venezuela; Gender Male; Cedula No. V8959785 (Venezuela) (individual) [VENEZUELA].

Designated pursuant to section 1(a)(ii)(C) of E.O. 13692, as amended by E.O. 13857, for being a current or former official of the Government of Venezuela.

21. MARCANO TABATA, Javier Jose, Venezuela; DOB 10 Mar 1969; POB San Antonio, Venezuela; nationality Venezuela; Gender Male; Cedula No. V10306352 (Venezuela) (individual) [VENEZUELA].

Designated pursuant to section 1(a)(ii)(C) of E.O. 13692, as amended by E.O. 13857, for being a current or former official of the Government of Venezuela.

Lisa M. Palluconi,
Acting Director, Office of Foreign Assets Control.

[FR Doc. 2024-28304 Filed 12-2-24; 8:45 am]

BILLING CODE 4810-AL-P